DEPARTMENT OF COMMERCE

National Telecommunications and Information Administration

47 CFR Part 301

Digital-to-Analog Converter Box Coupon Program Public Meeting

AGENCY: National Telecommunications and Information Administration, Commerce.

ACTION: Public meeting.

SUMMARY: Summary: NTIA will hold a public meeting on March 19, 2007 in connection with its Digital-to-Analog Converter Box Coupon Program described in the Final Rule that was recently adopted by NTIA.

DATES: The meeting will be held on March 19, 2007 at 10 a.m., Eastern Standard Time.

ADDRESSES: The meeting will be held at the U.S. Department of Commerce Auditorium, 1401 Constitution Avenue, N.W., Washington, D.C.

FOR FURTHER INFORMATION CONTACT: For further information regarding the meeting, contact Sandra Stewart at (202) 482-2246.

SUPPLEMENTARY INFORMATION: NTIA will host a public meeting to discuss its Final Rule establishing the Digital-to-Analog Converter Box Coupon Program. A copy of the Final Rule is available on NTIA's website at http://www.ntia.doc.gov. The public meeting will be limited to those issues addressed in the Final Rule. NTIA will not entertain questions related to the Request for Information published by NTIA on July 31, 2006, or other procurement related issues. All procurement-related questions should be directed to Diane Trice at (301) 713-0838 ext. 102 or diane.trice@noaa.gov.

Public attendance at the meeting is limited to space available. The meeting will be physically accessible to people with disabilities. Individuals requiring special services, such as sign language interpretation or other ancillary aids, are asked to indicate this to Sandra Stewart at least two (2) days prior to the meeting. Members of the public will have an opportunity to ask questions at the meeting. Individuals who would like to submit written questions should e-mail their questions to Francine Jefferson at fjefferson@ntia.doc.gov.

Dated: March 9, 2007.
Kathy D. Smith,
Chief Counsel, National Telecommunications and Information Administration.

[FR Doc. E7-4642 Filed 3-14-07; 8:45 am]

BILLING CODE 3510-60-S